DEPARTMENT OF DEFENSE

Office of the Secretary

[Docket ID: DOD-2016-OS-0075]

Proposed Collection; Comment Request

AGENCY: Pentagon Force Protection Agency, DoD.

ACTION: Notice.

SUMMARY: In compliance with the Paperwork Reduction Act of 1995, the Pentagon Force Protection Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 26, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Pentagon Force Protection Agency, Policy Office, 9000 Defense Pentagon, ATTN: John Rudaski, Washington, DC 20301-9000 or call (703) 695-0484.

SUPPLEMENTARY INFORMATION: Title; Associated Form; and OMB Number: Law Enforcement Officers Safety Act (LEOSA) Firearms Identification Cards (FICs); PA Form 105; OMB Number 0704-XXXX.

Needs and Uses: The information collection requirement is necessary to obtain information from individuals to validate eligibility of separating or separated PFPA law enforcement officers applying for a LEOSA FIC, to include Defense Protective Service of other predecessor agency law enforcement officers.

Affected Public: Individuals or Households.

Annual Burden Hours: 50 minutes.

Number of Respondents: 25.

Responses per Respondent: 1.

Annual Responses: 25.

Average Burden per Response: 2 minutes.

Frequency: On occasion.

Respondents are separating or separated Pentagon Force Protection Agency, Defense Protective Service, or other predecessor agency law enforcement officers applying for an identification card identifying them as a “qualified retired law enforcement officer” under 18 U.S.C. 926C and DoD Instruction 5525.12, “Implementation of the Amended Law Enforcement Officers Safety Act of 2004.”

Dated: June 22, 2016.
Aaron Siegel,
Alternate OSD Federal Register Liaison Officer, Department of Defense.

[FR Doc. 2016-15140 Filed 6-24-16; 8:45 am]

BILLING CODE 5001-06-P